DEPARTMENT OF HOMELAND SECURITY

Federal Emergency Management Agency

[Internal Agency Docket No. FEMA-3553-EM; Docket ID FEMA-2021-0001]

District of Columbia; Amendment No. 2 to Notice of an Emergency Declaration

AGENCY: Federal Emergency Management Agency, DHS.

ACTION: Notice.

SUMMARY: This notice amends the notice of an emergency declaration for the District of Columbia (FEMA-3553-EM), dated January 11, 2021, and related determinations.

DATES: This amendment was issued February 1, 2021.

FOR FURTHER INFORMATION CONTACT: Dean Webster, Office of Response and Recovery, Federal Emergency Management Agency, 500 C Street SW, Washington, DC 20472, (202) 646-2833.

SUPPLEMENTARY INFORMATION: The notice of an emergency declaration for the District of Columbia is hereby amended to include reimbursement for eligible emergency protective measures among the area determined to have been adversely affected by the event declared an emergency by the President in his declaration of January 11, 2021.

The District of Columbia for reimbursement for emergency protective measures (Category B) including direct Federal assistance, at 100 percent Federal funding. Reimbursement assistance will only be available to the extent that the District has expended the funding appropriated to it for the Presidential Inauguration.

The following Catalog of Federal Domestic Assistance Numbers (CFDA) are to be used for reporting and drawing funds: 97.030, Community Disaster Loans; 97.031, Cora Brown Fund; 97.032, Crisis Counseling; 97.033, Disaster Legal Services; 97.034, Disaster Unemployment Assistance (DUA); 97.046, Fire Management Assistance Grant; 97.048, Disaster Housing Assistance to Individuals and Households In Presidentially Declared Disaster Areas; 97.049, Presidentially Declared Disaster Assistance—Disaster Housing Operations for Individuals and Households; 97.050, Presidentially Declared Disaster Assistance to Individuals and Households—Other Needs; 97.036, Disaster Grants—Public Assistance (Presidentially Declared Disasters); 97.039, Hazard Mitigation Grant.

Robert J. Fenton,
Acting Administrator, Federal Emergency Management Agency.

[FR Doc. 2021-05791 Filed 3-18-21; 8:45 am]

BILLING CODE 9111-23-P